DEPARTMENT OF HEALTH AND HUMAN SERVICES

Privacy Act of 1974; Matching Program

AGENCY: Office of Child Support Services, Administration for Children and Families, Department of Health and Human Services.

ACTION: Notice of a new matching program.

SUMMARY: In accordance with the Privacy Act of 1974, as amended (Privacy Act), the Department of Health and Human Services (HHS), Administration for Children and Families (ACF), Office of Child Support Services (OCSS), is providing notice of a re-established matching program between HHS/ACF/OCSS and state agencies administering the Supplemental Nutrition Assistance Program (SNAP). The matching program compares state SNAP agency records with new hire, quarterly wage, and unemployment insurance information maintained in the National Directory of New Hires (NDNH) system of records maintained by OCSS. The outcomes of the comparisons help state agencies with establishing or verifying eligibility for applicants and recipients of SNAP benefits, reducing SNAP benefit errors, and maintaining program integrity.

DATES: Comments due within 30 days after publication. The re-established matching program will commence no sooner than 30 days after publication of this notice, provided no comments are received that warrant a change to this notice. The matching program will be conducted for an initial term of 18 months (from approximately August 16, 2024, through February 15, 2026) and, within 3 months of expiration, may be renewed for 1 additional year if the parties make no change to the matching program and certify that the program has been conducted in compliance with the agreement.

ADDRESSES: Interested parties may submit written comments on this notice to Venkata Kondapolu, Director, Division of Federal Systems, OCSS, ACF, by email at OCSSFedSystems@acf.hhs.gov or by mail at Mary E. Switzer Building, 330 C Street SW, Floor 5, Washington, DC 20201. Comments received will be available for public inspection at this address from 9:00 a.m. to 5:00 p.m. Eastern Time, Monday through Friday.

FOR FURTHER INFORMATION CONTACT: General questions about the matching program may be submitted to Venkata Kondapolu, Director, Division of Federal Systems, OCSS, ACF, by email at OCSSFedSystems@acf.hhs.gov, by mail at Mary E. Switzer Building, 330 C St. SW, 5th Floor, Washington, DC 20201, or by telephone at 202-260-4712.

SUPPLEMENTARY INFORMATION: The Privacy Act (5 U.S.C. 552a), provides certain protections for individuals applying for and receiving federal benefits. The law governs the use of computer matching by federal agencies when records in a system of records contain information about individuals, are retrieved by name or other personal identifier, and are matched with records of other federal, state, or local government records. The Privacy Act requires agencies involved in a matching program to:

1. Obtain approval of a Computer Matching Agreement, prepared in accordance with the Privacy Act, by the Data Integrity Board of each federal agency in a matching program, as required by 5 U.S.C. 552a(u)(3)(A).

2. Enter into a written Computer Matching Agreement, as required by 5 U.S.C. 552a(o)(1).

3. Provide a report of the matching program to Congress and the Office of Management and Budget (OMB), and make it available to the public, as required by 5 U.S.C. 552a(o)(2)(A).

4. Publish notice of the matching program in the Federal Register as required by 5 U.S.C. 552a(e)(12) after OMB and Congress complete their review of the report, as provided by OMB Circular A-108.

5. Provide individual notice at the time of application and periodically thereafter that applicants and recipients' information provided may be subject to verification through matching programs, as required by 5 U.S.C. 552a(o)(1)(D).

6. Independently verify match findings before suspending, terminating, reducing, or making a final denial of an individual's benefits or payments or taking other adverse action against the individual, as required by 5 U.S.C. 552a(p). This matching program complies with these requirements.

Tanguler Gray,
Commissioner, Office of Child Support Services.

Participating Agencies

The agencies participating in the matching program are OCSS (source agency) and state agencies administering SNAP (recipient non-federal agencies).

Authority for Conducting the Matching Program

The authority for conducting the matching program is 42 U.S.C. 653(j)(10). State SNAP agencies are required to participate in the matching program, as provided by 7 U.S.C. 2020(e)(24).

Purpose(s)

The purpose of the matching program is to provide each participating state agency administering SNAP with new hire, quarterly wage, and unemployment insurance information from the OCSS NDNH system of records to assist them in establishing or verifying SNAP applicants' and recipients' eligibility for assistance, reducing payment errors, and maintaining program integrity, including determining whether duplicate participation exists or if the applicant or recipient resides in another state. The state SNAP agencies may also use the NDNH information for the secondary purpose of updating SNAP recipients' reported participation in work activities and updating the recipients' and their employers' contact information maintained by the state SNAP agencies.

Categories of Individuals

The categories of individuals whose data is used in the matching program are adult members of households who have applied for or receive SNAP benefits.

Categories of Records

The categories of records used in the matching program, which may include personal identifiers, are new hire, quarterly wage, and unemployment insurance information. The specific data elements that will be provided to OCSS in a state agency input file are:

• Submitting state code (two-digit Federal Information Processing Standard code)

• Date stamp (input file transmission date)

• Adult SNAP caseload month and year of adult SNAP applicants and recipients

• Adult SNAP applicant/recipient Social Security number

• Adult SNAP applicant/recipient's first, middle, and last name

The SNAP-NDNH Record Specifications offer optional programming for the state to customize matching. For example, states may use the Passback field to identify specific records in a file, use the same State Data Indicator field whether or not to receive NDNH data that was provided by the state, and notify OCSS whether or not to verify the name and Social Security number combinations in the state agency's input file using Social Security Administration processes, as states may undergo verification prior to sending the file to OCSS. The NDNH data elements that OCSS will return to the state agency are as follows:

a. New Hire File

• New hire processed date

• Employee name and address

• Employee date and state of hire

• Federal and state employer identification numbers

• Department of Defense code

• Employer name and address

• Transmitter agency code

• Transmitter state code

• Transmitter state or agency name

b. Quarterly Wage File

• Quarterly wage processed date

• Employee name

• Federal and state employer identification numbers

• Department of Defense code

• Employer name and address

• Employee wage amount

• Quarterly wage reporting period

• Transmitter agency code

• Transmitter state code

• Transmitter state or agency name

c. Unemployment Insurance File

• Unemployment insurance processed date

• Claimant name and address

• Claimant benefit amount

• Unemployment insurance reporting period

• Transmitter state code

• Transmitter state or agency name

System(s) of Records

The NDNH data used in this matching program will be disclosed from the following OCSS system of records, as authorized by routine use 15: OCSS National Directory of New Hires, System No. 09-80-0381; see System of Records Notice (SORN) published in full at 89 FR 25625 (April 11, 2024).

[FR Doc. 2024-10928 Filed 5-17-24; 8:45 am]

BILLING CODE 4184-42-P